ENVIRONMENTAL PROTECTION AGENCY

[FRL-6988-7]

Proposed CERCLA Administrative Settlement—Rocky Flats Industrial Park Site, Jefferson County, Colorado

AGENCY: Environmental Protection Agency (EPA).

ACTION: Notice and request for public comment.

SUMMARY: In accordance with the requirements of section 122(i) of the Comprehensive Environmental Response, Compensation, and Liability Act, as amended (“CERCLA”), 42 U.S.C. 9622(i), notice is hereby given of a proposed administrative settlement under sections 122(g) of CERCLA, 42 U.S.C. 9622(g), concerning the Rocky Flats Industrial Park site located in the 17,000 block of Colorado Highway 72, approximately two miles east of the intersection of Colorado Highways 93 and 72, in Section 23, T2N, in Jefferson County, Colorado. This settlement, embodied in a CERCLA section 122(g) Administrative Order on Consent (“AOC”), is designed to resolve each settling parties’ liability at the Site for past work, past response costs and specified future work and response costs through covenants under sections 106 and 107 of CERCLA, 42 U.S.C. 9606 and 9607. The proposed AOC requires the settling parties listed in the Supplementary Information section below to pay an aggregate total of $668,695.88.

Opportunity for Comment: For thirty (30) days following the date of publication of this notice, the Agency will consider all comments received and may modify or withdraw its consent to either or both of the settlements if comments received disclose facts or considerations which indicate that either settlement is inappropriate, improper, or inadequate. The Agency's response to any comments received will be available for public inspection at the EPA Superfund Record Center, 999 18th Street, 5th Floor, in Denver, Colorado.

DATES: Comments must be submitted on or before July 5, 2001.

ADDRESSES: The proposed settlement and additional background information relating to the settlement are available for public inspection at the EPA Superfund Record Center, 999 18th Street, 5th Floor, in Denver, Colorado. Comments and requests for a copy of the proposed settlement should be addressed to Carol Pokorny (8ENF-T), Technical Enforcement Program, U.S. Environmental Protection Agency, 999 18th Street, Suite 300, Denver, Colorado 80202-2466, and should reference the Rocky Flats Industrial Park Site, Jefferson County, Colorado and the EPA docket number CERCLA-8-2001-06.

FOR FURTHER INFORMATION CONTACT: Carol Pokorny, Enforcement Specialist (8ENF-T), Technical Enforcement Program, U.S. Environmental Protection Agency, 999 18th Street, Suite 300, Denver, Colorado 80202-2466, (303) 312-6970.

SUPPLEMENTARY INFORMATION: Proposed AOC for De Minimis Settlement under section 122(g) of CERCLA, 42 U.S.C. 9622(g): In accordance with section 122(i) of CERCLA, 42 U.S.C. 9622(i), notice is hereby given that the terms of the AOC have been agreed to by the following settling parties, for the following amounts (where the name of one party is followed by one or more names grouped under it, the main name listed is the name that appears on the AOC signature page or is the name of the party that is assuming liability under the AOC):

Administrative order on consent de Minimis settlement
[EPA Docket No. CERCLA-8-2001-06]
| Settlement amount
Settling Respondents (private parties)
Accutronics | $5,237.18
Adcon Sign/Advertising Agency | 4,878.85
Advanced Design Auto Body | 826.91
AG Wassenaar, Inc | 441.02
Alpine Auto Body | 727.70
Anema's Auto Body | 9,387.22
Antique Shop/Place, The | 1,267.95
Aurora Public Schools | 3,087.18
Aurora Risk Management, City of | 551.28
Auto Body & Paint Center, Inc | 4,520.51
Autoliv, Denver Operations f/k/a OEA, Inc | 4,300.01
AutoNation, Inc | 826.91
Emich Olds Auto Body |
Avedon Engineering | 7,442.31
AVX Corporation, a Kyocera Group Company | 8,820.52
Bear Creek Auto Body | 1,929.49
Best Manufacturing Co. dba Best Sign Systems | 871.03
Bill Crouch Motor Co | 1,653.85
Bob's Auto Body and Paint | 4,327.57
Bottling Group, LLC | 606.42
Pepsi Cola Metropolitan Bottling Company, Inc. |
Pepsi Cola Bottling Company of Denver |
Pepsi Cola Bottling Co. of Colorado |
Boulder Auto Body | 3,500.64
Broomfield Auto Body | 826.91
Broomfield Industrial Painting, Inc | 13,203.21
Brunson Instrument Company | 1,019.87
Burt Chevrolet/LGC Management, Inc | 7,056.41
Burt Subaru/LGC Management, Inc | 5,237.18
Carlin Dodge | 3,721.15
Carriage Shoppe, Inc. (rank #102) | 4,630.77
Carriage Shoppe, Inc. (rank #255) | 799.35
Cherry Creek Dodge | 3,776.27
Clyde's Auto Body | 1,212.81
Cobe—Lakewood | 1,019.87
Colorado Anodizing n/k/a Lincoln Plating Co | 6,702.19
Colorado Chrysler Plymouth | 5,071.80
Colorado Coach Co | 6,036.54
Colorado State Highway Department | 4,713.47
Continental Volkswagen, Inc | 909.61
Continental Body Shop |
Copper Mountain Inc | 882.05
Cratos Holdings, LLC | 2,756.40
W.S. Tyler, Incorporated |
R.J. Dick, Inc. |
Hewitt-Robins Corp. |
Dave's T&D Auto Body, Inc | 1,102.57
Davidson Chevrolet | 7,293.46
Dellenbach Chevrolet | 3,417.96
Denver Metal Finishing | 7,910.90
Denver Police Garage, The | 551.28
Diamond Auto Body | 2,811.54
Diematics Inc | 1,212.81
Don Massey Cadillac | 7,083.97
Dow Chemical Company, The | 9,976.87
Easter-Owens Manufacturers | 11,053.20
Electro Painter | 1,736.55
EMCO (Engineering Measurements Company) | 1,929.49
Engineering Measurements |
EMCO |
Emerson Electric Co | 23,126.28
Western Forge Corporation
Exabyte Corporation | 606.42
Fender Menders—Fort Collins | 5,512.82
Fischer Imaging Corporation | 6,863.47
Forenco, Inc | 18,743.59
Federal Envelope |
Friendly Ford, Inc./Chesrown Automotive Group | 2,480.76
Front Range Plating | 16,637.70
Galaxie Auto Body | 7,993.58
Gates Corp., The | 38,782.68
Gates Energy Products, Inc. |
General Cable Co | 6,560.25
George McCaddon Cadillac | 2,287.82
Gittelman Properties | 1,460.89
Gold Star Auto Body | 3,059.62
Goldberg Brothers | 3,368.33
Goodman Buick/GMC | 5,457.70
Great Lakes Chemical Corporation |
West Lafayette Corporation f/k/a E/M Lubricants | 27,729.48
Greenwood Village, City of | 2,844.61
Hauser Chemical Research | 1,212.81
Hazen-Quinn Process Equipment Co/Hazen Research | 551.28
Hollister Motor Co | 9,096.16
Hussmann Corporation | 551.28
James Drilling Company | 1,653.85
Jerry Roth Chevrolet, Inc | 3,373.84
Jim Blum Oldsmobile/GMC | 1,957.05
Karle Coachwork, Inc | 826.91
Karosserie Fabric Auto Body | 3,583.33
Kelly-Moore Paint Co. of Colorado | 3,032.06
L and H Garage | 1,929.49
La Nouvelle Fine Cleaners | 995.07
B&K Cleaners
La Nouvelle Fine Cleaners
Laber's Tin Lizzie | 1,653.85
Lectra Products Co | 6,240.52
Len Lyall Chevrolet, Inc | 5,016.66
Linotype Company | 633.98
Littleton Auto Body | 1,901.93
Longmont, City of | 12,624.35
Luby Chevrolet Company | 2,960.38
Mahnke Auto Body, Inc | 2,591.02
Majestic Metals Company, Inc | 5,678.20
Marco Shipyard | 1,212.81
Mattocks Brothers Autobody, Inc | 3,142.30
MAXCOR Manufacturing, Inc./Qualtek, Inc | 1,378.21
May D & F | 441.02
Metron Inc | 633.98
Microsemi Corp. of Colorado | 24,421.79
Microsemi Corp./Coors Components, Inc.
Microsemi Corp. of Colorado
Midwest Auto Body, Inc | 578.86
Mike Naughton Ford, Inc | 6,190.89
Mountain States Volkswagen | 1,460.89
National Wire & Stamping | 606.42
NER Data Products, Inc., a Hagro Company | 551.28
New Coleman Holdings, Inc | 3,748.71
Coleman Cutlery Co.
Western Cutlery Co.
Pease Industries, Inc | 27,894.86
Pepsi Cola Bottling Co. of Colorado | 606.42
Pike Tool & Grinding | 7,166.67
Pioneer Painting/Pioneer Industries, Inc | 606.42
Prestige Porsche/Audi | 7,056.41
ProCoat Systems, Inc | 523.72
Products for Industry, Inc | 2,094.87
Purifoy Chevrolet Co | 1,670.38
Quality Metal Products, Inc | 3,886.53
Ramsey Auto Body, Inc | 2,265.78
Raytheon Aircraft Company | 4,096.03
Beech Aircraft Corporation
Red Noland Cadillac | 7,056.41
Regional Transportation District | 10,132.56
Reynolds Olds-Cadillac, Subaru, Inc | 882.05
Rocky Mountain Paint & Body, Inc | 4,685.91
Rosemont Pharmaceutical Corporation | 4,796.15
Pharmaceutical Basics, Inc. (PBI)
Sachs Lawlor | 1,019.87
Sam's Automotive Reconditioning Centers | 6,174.36
Scott's Liquid Gold, Inc | 551.28
Serpentix Conveyor Corporation | 1,653.85
Sherwin-Williams Company, The | 6,064.10
Sill-TerHar Ford | 7,276.93
Stanley Aviation Corporation | 7,635.27
Super Vacuum Manufacturing Company, Inc | 8,214.10
Suss Pontiac GMC | 8,103.84
TDY Industries, Inc | 1,571.15
Teledyne Densco
T.H. Pickens Technical Center | 5,512.82
Team Chevrolet | 8,820.52
Terracon, Inc | 441.02
Empire Labs
Tom's Body Shop, Inc | 2,497.30
Turner Chevrolet | 551.28
Weber Auto Body | 1,929.49
Wells Fargo Bank, N.A. f/k/a First Interstate | 3,440.00
Bank of Denver, N.A., as Trustee of the Robert A. Mitchem Testamentary Trust; and Wells Fargo Bank, N.A. f/k/a First Interstate Bank of Denver, N.A.
Robert A. Mitchem Testamentary Trust
Williams Chevrolet | 6,692.56
Total Amount for Settling Respondents | $640,379.10
Settling Federal Parties
U.S. Army—Fitzsimmons Medical Center | $ 8,881.15
U.S. EPA | 13,528.45
U.S. Federal Highway Administration | 5,882.18
U.S. Government Printing Office | 25.00
Total Amount for Settling Federal Parties | $28,316.78

By the terms of the proposed AOC for de minimis settlement, the settling parties will pay a combined total of $668,695.88 to the Hazardous Substance Superfund. This payment represents approximately 9.9% of the $6,748,001.01 in past and estimated future response costs ($3,028,001.01 in past response costs incurred through September 30, 2000, plus $3,720,000.00 for the estimated future work at the site). The money will be deposited into a special account which can be used to pay for future work at the Site. The settling parties manifested 121,978.059 gallons of hazardous substances to the Site. This amount represents approximately 7.81% of the 1,561,451.371 gallons of hazardous substances manifested to the Site by all generators, both de minimis and non-de minimis.

The amount that each individual PRP will pay, as shown above, was based upon the number of gallons of hazardous substances manifested to the Site. The total amount of settlement dollars owed by each party to the settlement was arrived at by adding their Base Amount to a Premium Amount. The cost per gallon of $4.32 was derived by dividing the estimated clean-up cost at the time of calculation of $6,748,001.01 by the 1,561,451.371 total gallons of hazardous substances manifested to the Site. The settling party's Base Amount was calculated by multiplying the cost per gallon by the number of gallons that party manifested to the Site. A fifty per cent (50%) premium on the estimated future response costs of $3,720,000 was calculated into each settling parties' payment.

To be eligible for the de minimis settlement, each PRP must have submitted a response to EPA's Request for Information, and must have contributed no more than 1% of the total volume of hazardous substances manifested to the Site.

It is so Agreed:

Dated: May 17, 2001.
Carol Rushin,
Assistant Regional Administrator, Office of Enforcement, Compliance, and Environmental Justice, Region VIII.

[FR Doc. 01-13948 Filed 6-1-01; 8:45 am]

BILLING CODE 6560-50-U